DEPARTMENT OF LABOR

Employment and Training Administration

[TA-W-51,419]

Vaisala, Inc., A Wholly Owned Subsidiary of Vaisal OYJ, Columbus Operations, Plain City, OH; Notice of Revised Determination on Reconsideration

By application of May 2, 2003, a worker requested administrative reconsideration regarding the Department's Negative Determination Regarding Eligibility to Apply for Worker Adjustment Assistance, applicable to the workers of the subject firm.

The initial investigation resulted in a negative determination issued on April 18, 2003 based on the finding that imports of automated weather observation systems (AWOS) did not contribute importantly to worker separations at the subject plant. The denial notice was published in the Federal Register on May 7, 2003 (68 FR 24503).

To support the request for reconsideration, the worker supplied additional information to supplement that which was gathered during the initial investigation. Upon further review and contact with the company, it was revealed that, subsequent to the closure of the plant, the company shifted production to one of their foreign facilities and began importing components of the AWOS system that were like or directly competitive with components produced at the subject facility in the relevant period. It was also determined that the production of these components at the subject facility comprised a significant portion of overall production.

Conclusion

After careful review of the facts obtained in the investigation, I determine that there was a shift in production from the workers' firm or subdivision to a foreign source of articles that are like or directly competitive with those produced by the subject firm or subdivision, and there has been or is likely to be an increase in imports of like or directly competitive articles. In accordance with the provisions of the Act, I make the following certification:

All workers of Vaisala, Inc., A Wholly Owned Subsidiary of Vaisal OYJ, Columbus Operations, Plain City, Ohio, who became totally or partially separated from employment on or after March 27, 2002 through two years from the date of this certification, are eligible to apply for adjustment assistance under Section 223 of the Trade Act of 1974.

Signed in Washington, DC this 3rd day of June 2003.
Elliott S. Kushner,
Certifying Officer, Division of Trade Adjustment Assistance.

[FR Doc. 03-15479 Filed 6-18-03; 8:45 am]

BILLING CODE 4510-30-P